DEPARTMENT OF THE INTERIOR

U.S. Geological Survey

[USGS—GX11EB00A1810.00]

Proposed Information Collection; Assessment of the Business Requirements and Benefits of Enhanced National Elevation Data

AGENCY: United States Geological Survey (USGS), Interior.

ACTION: Notice; request for comments.

SUMMARY: We (U.S. Geological Survey) have sent an Information Collection Request (ICR) to OMB for review and approval. The ICR, which is summarized below, describes the nature of the collection and the estimated burden and cost. To comply with the Paperwork Reduction Act of 1995 and as part of our continuing efforts to reduce paperwork and respondent burden, we invite the general public and other Federal agencies to comment on this ICR. We may not conduct or sponsor and a person is not required to respond to a collection unless it displays a currently valid Office of Management and Budget (OMB) control number.

DATES: You must submit comment on or before January 12, 2011.

ADDRESSES: Send your comments and suggestions on this ICR to the Desk Officer for the Department of the Interior at OMB-OIRA at (202) 395-5806 (fax) or OIRA_DOCKET@OMB.eop.gov (e-mail). Please send a copy of your comments on the ICR to Phadrea Ponds, Information Collection Clearance Officer, U.S. Geological Survey, 2150-C Centre Avenue Fort Collins, CO 80526 (mail); pondsp@usgs.gov (e-mail). Please reference Information Collection Request 1028-NEW, LiDAR.

FOR FURTHER INFORMATION CONTACT: Gregory Snyder by mail at U.S. Geological Survey, 12201 Sunrise Valley Drive, MS 517, Reston, VA 20192-0001, or by telephone at 703-648-5169.

SUPPLEMENTARY INFORMATION:

I. Abstract

USGS supports some of the most pressing resource management, environmental and climate change science issues faced by our Nation. Light Detection and Ranging (LiDAR) is the leading technology for collecting highly accurate three-dimensional measurements of the Earth's topography and surface features such as buildings, bridges, coastlines, rivers, forests and other landscape characteristics. These data provide an unprecedented tool for scientific understanding and inform National decisions related to ecosystem management, energy development, natural resource conservation and mitigating geologic and flood-related hazards. The USGS now collects LiDAR data to a limited extent and primarily for upgrading bare-earth elevation data for The National Map. This study seeks to establish a baseline of national business needs and associated benefits for LiDAR to enhance the responsiveness of USGS programs, and to design an efficient future program that balances requirements, benefits and costs. The study advances coordinated program development among the numerous Federal and State agencies that increasingly rely on LiDAR to enable the fulfillment of their missions. The study is sponsored by the National Digital Elevation Program steering committee and supported by several member agencies.

The information collection process will be guided by an interagency management team led by USGS with support from a professional services contractor. The information collection will be conducted using a standardized template. Responses are one-time and voluntary.

II. Data

OMB Control Number: None. This is a new collection.

Title: Assessment of the Business Requirements and Benefits of Enhanced National Elevation Data.

Type of Request: New.

Affected Public: States, U.S. Territories, Tribes and local natural resource development agencies.

Respondent's Obligation: Voluntary.

Frequency of Collection: One time only.

Estimated Annual Number of Respondents: 445.

Estimated Total Annual Burden Hours: 422.

III. Request for Comments

We are again inviting comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at any time. While you can ask OMB in your comment to withhold your personal identifying information from public review, we cannot guarantee that will be done.

Dated: December 7, 2010.
Bruce K. Quirk,
Program Coordinator.

[FR Doc. 2010-31169 Filed 12-10-10; 8:45 am]

BILLING CODE 4311-AM-P